DEPARTMENT OF COMMERCE

Bureau of Industry and Security

15 CFR Parts 740, 772, and 774

[Docket No. 080215206-81243-01]

RIN 0694 AE29

Wassenaar Arrangement Plenary Agreements Implementation: December 2007 Categories 1, 2, 3, 5 Parts I and II, 6, 7, and 9 of the Commerce Control List, Definitions; December 2006 Solar Cells

Correction

In rule document E8-23278 beginning on page 60910 in the issue of October 14, 2008, make the following corrections:

1. On page 60911, in the second column, under the heading Revisions to the Commerce Control List, in the 13th and 14th lines, “1A006 and 1A007” should read “1A006, 1A007, and 3C006”.

2. On the same page, in the same column, under the same heading, in the 18th line, “3C005, 3C006, 3D001” should read “3C005, 3D001”.

[FR Doc. Z8-23278 Filed 10-31-08; 8:45 am]

BILLING CODE 1505-01-D